DEPARTMENT OF THE INTERIOR

National Park Service

[NPS-WASO-NRNHL-DTS#-34868; PPWOCRADI0, PCU00RP14.R50000]

National Register of Historic Places; Notification of Pending Nominations and Related Actions

AGENCY: National Park Service, Interior.

ACTION: Notice.

SUMMARY: The National Park Service is soliciting electronic comments on the significance of properties nominated before November 5, 2022, for listing or related actions in the National Register of Historic Places.

DATES: Comments should be submitted electronically by December 6, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 5, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

COLORADO

Denver County

South High School, 1700 East Louisiana Ave., Denver, SG100008460

DISTRICT OF COLUMBIA

District of Columbia

Uptown Theatre, 3426 Connecticut Ave. NW, Washington, SG100008461

GEORGIA

Fulton County

Conklin, Daniel E., House, 205 Blackland Rd., Atlanta, SG100008463

LOUISIANA

Pointe Coupee Parish

New Roads Commercial Historic District, 453 East Main to 348 West Main, 107-121 Court, 124-151 New Roads, 142 St. Mary, and 112-159 Richey Sts.; Morrison Pkwy., New Roads, SG100008456

MICHIGAN

Wayne County

Higginbotham, William E., Elementary School, (Public Schools of Detroit MPS), 8730 Chippewa St., Detroit, MP100008470

MONTANA

Carbon County

Yellowstone Bighorn Research Association Camp, 118 Howell Gulch Rd., Red Lodge vicinity, SG100008457

NORTH CAROLINA

Buncombe County

Shiloh African Methodist Episcopal Zion Church, 95 Shiloh Rd., Asheville, SG100008469

Caswell County

Thompson, Nicholas and Lucretia, House, 7846 US 158 East, Leasburg, SG100008468

Forsyth County

Downtown Winston-Salem Historic District, 3rd, 4th, 5th, 6th, Spring, Spruce, Marshall, Cherry, Town Run, Trade, Liberty, and Church Sts., Winston-Salem, SG100008467

Gaston County

Stanley Mills, 357, 361 North Main, 100 West Parkwood and 111 West Church Sts., Stanley, SG100008466

Rowan County

City Motor Company, 419 South Main St., Salisbury, SG100008465

Wayne County

Goldsboro Woman's Club, 116 North William St., Goldsboro, SG100008464

NORTH DAKOTA

McLean County

Schlafmann Barn, (Common Farm and Ranch Barns in North Dakota MPS), 696 l6th Ave. NW, Turtle Lake, MP100008472

OHIO

Hamilton County

Arlington School, 607 Carthage Ave., Arlington Heights, SG100008459

OKLAHOMA

Woods County

Alva Municipal Swimming Pool and Bathhouse, 1402 Flynn St., Alva, SG100008455

WASHINGTON

Clark County

Northrop Primary School, (The Architecture of Donald J. Stewart in Washington and Oregon, 1933-1967 MPS), 611 Grand Blvd., Vancouver, MP100008454

A request for removal has been made for the following resource:

WASHINGTON

Snohomish County

Weyerhaeuser Office Building, 1710 West Marine View Dr., Everett, OT86001079

Authority: Section 60.13 of 36 CFR part 60.

Dated: November 9, 2022.
Sherry A. Frear,
Chief, National Register of Historic Places/National Historic Landmarks Program.

[FR Doc. 2022-25257 Filed 11-18-22; 8:45 am]

BILLING CODE 4312-52-P